DEPARTMENT OF AGRICULTURE

Submission for OMB Review; Comment Request

February 21, 2019.

The Department of Agriculture has submitted the following information collection requirement(s) to OMB for review and clearance under the Paperwork Reduction Act of 1995, Public Law 104-13. Comments are required regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by March 28, 2019 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Biofuels Infrastructure Partnership (BIP).

OMB Control Number: 0560-0284.

Summary of Collection: The Farm Service Agency (FSA) announced the availability of competitive grants to fund States, the Commonwealth of Puerto Rico, and Washington, DC with respect to activities designed to expand the infrastructure for renewable fuels. The goal is for grantees to provide funds on a one-to-one basis to receive matching Commodity Credit Corporation (CCC) funds under the authority in section 5€ of CCC Charter Act (15 U.S.C. 714c(e)). This information collection is needed for FSA to identify eligible States for blender pump funding to encourage increased ethanol use. FSA requires each State interested to apply for BIP grant through www.grants.gov.

Need and Use of the Information: FSA will use the collected information to determine whether participants meet the eligibility requirements to be a recipient of grant funds. Lack of adequate information to make the determination could result in the improper administration and appropriation of Federal grants funds.

Description of Respondents: State, Local and Tribal Government.

Number of Respondents: 19.

Frequency of Responses: Recordkeeping; Reporting: Other (once).

Total Burden Hours: 109.

Farm Service Agency

Title: Market Facilitation Program.

OMB Control Number: 0560-0292.

Summary of Collection: This information collection is required for the Farm Service Agency (FSA) to make Market Facilitation Program (MFP) payments to domestic crop and commodity producers. Specifically, the Commodity Credit Corporation (CCC) Charter Act (15 U.S.C. 714c) authorizes CCC to assist in the disposition of surplus commodities and to increase the domestic consumption of agricultural commodities by expanding or aiding in the expansion of domestic markets or by developing or aiding in the development of new and additional markets, marketing facilities, and uses for such commodities.

Need and Use of the Information: The information collection is needed to provide assistance through the MFP with respect to commodities that have been significantly impacted by actions of foreign governments resulting in the loss of traditional exports. In order to determine whether a producer is eligible for MFP and to calculate a payment, a producer is required to submit the following forms: CCC-901—MFP Application, CCC-902—Farm Operating Plans for an Individuall, CCC-941—Average Adjusted Gross Income (AGI) Certification and Consent to Disclosure of Tax Information, FSA 578—Report of Acreage, and AD-1026—Highly Erodible Land Conservation (HELC) and Wetland Conservation Certification. Lack of adequate information to make the determination could result in the improper administration and appropriation of CCC funds.

Description of Respondents: Farms.

Number of Respondents: 898,600.

Frequency of Responses: Reporting; Other (one-time).

Total Burden Hours: 669,850.

Ruth Brown,
Departmental Information Collection Clearance Officer.

[FR Doc. 2019-03239 Filed 2-25-19; 8:45 am]

BILLING CODE 3410-05-P